DEPARTMENT OF ENERGY

International Energy Agency Meeting

AGENCY: Department of Energy.

ACTION: Notice of meetings.

SUMMARY: The Industry Advisory Board (IAB) to the International Energy Agency (IEA) will meet on March 17, 2004, at the headquarters of the IEA in Paris, France, in connection with a meeting of the IEA's Standing Group on Emergency Questions. A meeting involving members of the IAB in connection with a meeting of the IEA's Emergency Response Exercise (ERE3) Design Group will be held at the headquarters of the IEA on March 17-18, 2004.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on March 17, 2004, beginning at 8:30 a.m. The purpose of this notice is to permit attendance by representatives of U.S. company members of the IAB at a meeting of the IEA's Standing Group on Emergency Questions (SEQ), which is scheduled to be held at the IEA on March 17, beginning at 10:30 a.m., including a preparatory encounter among company representatives from 8:30 a.m. to 9:15 a.m. The agenda for the preparatory encounter is as follows:

I. Welcome, Review of Agenda, and Introductions

II. Report on Expiration of European Community Exemption for IAB Activities

III. Update on International Energy Forum

IV. Comments on New IAB Web site Prepared by IEA

V. Closing and Review of Meetings of Interest to IAB Members

The agenda for the SEQ meeting is under the control of the SEQ. It is expected that the SEQ will adopt the following agenda:

1. Adoption of the Agenda

2. Approval of the Summary Record of the 109th Meeting

3. Program of Work

—Follow-up to Surplus Publication Revenues Projects

—Progress Report on Planning of Emergency Response Exercise (ERE) 3

—First Steps in Program of Work 2005-2006

—4. Update on Compliance with IEP Stockholding Commitments

—Reports by Non-Complying Member Countries

—Report on Recent Emergency Response Review of Portugal

5. Relations with the New European Union Member Countries

6. Report on Current Activities of the IAB

7. Policy and Other Developments in Member Countries

—United States

—Japan

8. Emergency Response Activities

—Preliminary Assessment of Economic Impacts of Oil Supply Crises

—Bilateral Stocks and Tickets in IEA Member Countries

—Update on IEA/EU Data Harmonization

9. Activities with Non-Member Countries and International Organizations

—The IEA-India Workshop on Emergency Oil Stock Issues

—ASCOPE Meeting in Cambodia

—International Energy Forum Meeting in Bangkok

—The EU Antitrust Situation

10. Emergency Response Reviews of IEA Member Countries

—Revised Schedule of Emergency Response Reviews for 2004-2005

—Emergency Response Review of Ireland

—Emergency Response Review of the United Kingdom

11. Other Documents for Information

—Emergency Reserve Situation of IEA Member Countries on January 1, 2004

—Emergency Reserve Situation of IEA Candidate Countries on January 1, 2004

—Monthly Oil Statistics: December 2003

—Base Period Final Consumption: 1Q2003-4Q2003

—Quarterly Oil Forecast: First Quarter 2004

—Update of Emergency Contacts List

12. Other Business

—Dates of Next Meetings:

June 29, 2004: 111th Meeting of the SEQ

June 30, 2004: Workshop on Near-Term Risk Assessment in the Oil Market

June 30, 2004: ERE 3 Design Group Meeting

October 25-28, 2004: ERE 3

—Changes in the EPPD Secretariat and Delegations

A meeting involving members of the IAB in connection with a meeting of the IEA's ERE3 Design Group will be held on March 17-18, 2004, at the headquarters of the IEA from approximately 9:30 a.m. to 10:15 a.m. on March 17 and continuing on March 18 at 9:30 a.m. The purpose of this meeting is to discuss the structure of an oil supply disruption simulation exercise in connection with the SEQ, which is scheduled to be held at IEA headquarters between October 25-28, 2004.

The March 17 meeting will be a preparatory briefing session, the agenda for which is a review of the agenda for the March 18 meeting. The agenda for the March 18 meeting is under the control of the SEQ. It is expected that the SEQ will adopt the following agenda:

Phase 1: Workshop on Risk Assessment and Scenario-Building in the Present and Near-Term Oil Market

—One-day Workshop in Paris, June 26, 2004

Phase 2: A “Real-Time” IEA Emergency Response Exercise for Member Countries

—Late September 2004, Member Countries Participate from Capitals

Phase 3: Emergency Response Training and Disruption Simulation Exercise for Non-Member Countries and New SEQ Participants

—Tentative Schedule, October 25-26, 2004

Phase 4: The Third IEA SEQ Disruption Simulation Exercise

—Tentative Schedule, October 27-28, 2004 Other Agenda Items

—Date of the Next Design Group Meeting

As provided in section 252(c)(1)(A)(ii) of the Energy Policy and Conservation Act (42 U.S.C. 6272(c)(1)(A)(ii)), the meetings of the IAB are open to representatives of members of the IAB and their counsel; representatives of members of the IEA's Standing Group on Emergency Questions (SEQ); representatives of the Departments of Energy, Justice, and State, the Federal Trade Commission, the General Accounting Office, Committees of Congress, the IEA, and the European Commission; and invitees of the IAB, the SEQ, or the IEA.

Issued in Washington, DC, March 3, 2004.
Samuel M. Bradley,
Assistant General Counsel for International and National Security Programs.

[FR Doc. 04-5253 Filed 3-8-04; 8:45 am]

BILLING CODE 6450-01-P